DEPARTMENT OF THE INTERIOR

Fish and Wildlife Service

Aquatic Nuisance Species Task Force Mississippi River Basin Panel Meeting

AGENCY: Fish and Wildlife Service, Interior.

ACTION: Notice of meeting.

SUMMARY: This notice announces a meeting of the Aquatic Nuisance Species (ANS) Task Force Mississippi River Basin Panel. The meeting topics are identified in the SUPPLEMENTARY INFORMATION.

DATES: The Mississippi River Basin Regional Panel will meet from 8 a.m. to 5 p.m. on Thursday, July 10, 2003, and 8 a.m. to 2 p.m. on Friday, July 11, 2003, and a field trip from 2:30 p.m. to 6 p.m. on Friday, July 11, 2003.

ADDRESSES: The Mississippi River Basin Regional Panel meeting will be held at the Hilton Minneapolis/St. Paul Airport, 3800 East 80th Street, Bloomington, MN 55425. Phone 952-854-2100.

FOR FURTHER INFORMATION CONTACT: Jay Rendall, Mississippi River Basin Panel Chair and Exotic Species Program Coordinator, Minnesota Department of Natural Resources at 651-297-1464 or Sharon Gross, Executive Secretary, Aquatic Nuisance Species Task Force at 703-358-2308.

SUPPLEMENTARY INFORMATION: Pursuant to section 10(a)(2) of the Federal Advisory Committee Act (5 U.S.C. App. I), this notice announces meetings of the Aquatic Nuisance Species Task Force Mississippi River Basin Regional Panel. The Task Force was established by the Nonindigenous Aquatic Nuisance Prevention and Control Act of 1990. The Mississippi River Basin Regional Panel was established by the ANS Task Force in 2002. The purpose of the Panel is to advise and make recommendations to the Aquatic Nuisance Species Task Force on issues relating to the Mississippi River Basin region of the United States that includes thirty-two Mississippi River Basin States: Alabama, Arkansas, Colorado, Georgia, Iowa, Illinois, Indiana, Kentucky, Kansas, Louisiana, Maryland, Michigan, Minnesota, Missouri, Mississippi, Montana, North Carolina, North Dakota, Nebraska, New Mexico, New York, Ohio, Oklahoma, Pennsylvania, South Carolina, South Dakota, Tennessee, Texas, Virginia, West Virginia, Wisconsin, and Wyoming. The Mississippi River Basin Regional Panel will discuss several topics at this meeting including: aquatic invasive species (Asian carp, New Zealand mudsnail, round goby, water fleas, purple loosestrife, and Eurasian watermilfoil) in the Mississippi River Basin and their management; a discussion on pathways of invasive species spread and prevention methods used for the aquatic plant trade, recreational activities, and effective boater education programs; a discussion on prevention initiatives taken for the dispersal barrier and the summit in Chicago, 100th Meridian initiative, public awareness campaign, Stop Aquatic Hitchhikers, NAISA, and National Invasive Species Council's rapid response efforts; a discussion on Panel organization and operation and establishment of new Panel Committees for education, policy, control, research, and outreach efforts; and status and discussion of national legislation regarding aquatic invasive species.

Minutes of the meeting will be maintained by the Executive Secretary, Aquatic Nuisance Species Task Force, Suite 810, 4401 North Fairfax Drive, Arlington, Virginia 22203-1622, and will be available for public inspection during regular business hours, Monday through Friday.

Dated: June 13, 2003.
Mamie Parker,
Co-Chair, Aquatic Nuisance Species Task Force, Assistant Director—Fisheries & Habitat Conservation.

[FR Doc. 03-16659 Filed 7-1-03; 8:45 am]

BILLING CODE 4310-55-M